DEPARTMENT OF TRANSPORTATION

Federal Aviation Administration

Notice of Availability of the Final Tiered Environmental Assessment and Mitigated Finding of No Significant Impact and Record of Decision for SpaceX Starship/Super Heavy Vehicle Increased Cadence at the SpaceX Boca Chica Launch Site in Cameron County, Texas

AGENCY: Federal Aviation Administration (FAA), Department of Transportation (DOT).

ACTION: Notice of availability.

SUMMARY: The FAA is announcing the availability of the Final Tiered Environmental Assessment and Mitigated Finding of No Significant Impact and Record of Decision for SpaceX Starship/Super Heavy Vehicle Increased Cadence at the SpaceX Boca Chica Launch Site in Cameron County, Texas (Final Tiered EA and Mitigated FONSI/ROD).

SUPPLEMENTARY INFORMATION: The FAA is the lead agency. The National Aeronautics and Space Administration, the National Park Service, the U.S. Coast Guard, and the U.S. Fish and Wildlife Service are cooperating agencies due to their special expertise and/or jurisdiction. The FAA evaluated SpaceX's proposal to increase the launch and landing cadence of the Starship/Super Heavy launch vehicle at its existing Boca Chica Launch Site in Cameron County, Texas. SpaceX must obtain a modification of their existing vehicle operator license from the FAA to operate Starship/Super Heavy at an increased cadence. Under the Proposed Action, the FAA would modify SpaceX's existing vehicle operator license to authorize SpaceX to increase the cadence of the Starship/Super Heavy launch program at the Boca Chica vertical launch area (VLA) in Cameron County, Texas to up to 25 annual launches, up to 25 annual landings of Starship (second stage), up to 25 annual landings of Super Heavy (first stage) and make vehicle and operational upgrades. Up to three launches (of the total 25) would occur during nighttime hours from the VLA. Landings at the VLA would only take place during the daytime, with up to 22 Starship and 22 Super Heavy landings at the VLA. Daytime landings of either vehicle may also take place offshore as well. Up to three landings of Starship and three offshore landings of Super Heavy may occur at night. SpaceX would also conduct up to 90 seconds of licensed daytime Starship static fire tests and 70 seconds of licensed daytime Super Heavy static fire tests a year. The federal action also includes the FAA's issuance of temporary airspace closures.

The Final Tiered EA evaluated the potential environmental impacts of the Proposed Action and the No Action Alternative. Under the No Action Alternative, the FAA would not modify a license to SpaceX to allow for increased launch and landing cadence from the Boca Chica launch site. As assessed in the 2022 Final Programmatic Environmental Assessment (PEA) for the SpaceX Starship/Super Heavy Launch Vehicle Program at the SpaceX Boca Chica Launch Site in Cameron County, Texas and subsequent Written Re-evaluations (WRs), SpaceX could conduct up to five annual Starship and up to five annual Super Heavy launches (with Starship attached as the second stage of the launch vehicle), up to ten annual Starship landings, and up to five annual Super Heavy landings. The Starship/Super Heavy launch vehicles would not be modified and would remain the same as assessed in the 2022 PEA. This alternative provides the basis for comparing the environmental consequences of the Proposed Action.

The FAA published the Draft EA for a 30-day public comment period that began on July 29, 2024, and ended on August 29, 2024. The FAA issued a Revised Draft EA and initiated a new 45-day public comment period that began on November 20, 2024, and ended on January 17, 2025. The FAA received thousands of public comments on the Revised Draft EA. The revised Draft Tiered EA was revised based on public comments, and the Final Tiered EA includes responses to substantive comments. The FAA has posted the Final Tiered EA and Mitigated FONSI/ROD on the FAA Office of Commercial Space Transportation website: https://www.faa.gov/space/stakeholder_engagement/spacex_starship/.

Authority: The National Environmental Policy Act of 1969, as amended (NEPA; 42 U.S.C. 4321-4336) and FAA Order 1050.1F, Environmental Impacts: Policies and Procedures.

Issued in Washington, DC, on: May 6, 2025.
Stacey Molinich Zee,
Manager, Operations Support Branch.

[FR Doc. 2025-08232 Filed 5-9-25; 8:45 am]

BILLING CODE 4910-13-P